DEPARTMENT OF COMMERCE

National Oceanic and Atmospheric Administration

RIN 0648-XD543

Appointments to the Climate and Aquaculture Task Forces by the Marine Fisheries Advisory Committee

AGENCY: National Marine Fisheries Service (NMFS), National Oceanic and Atmospheric Administration (NOAA), Commerce.

ACTION: Notice; Request for Nominations.

SUMMARY: Nominations are being sought for appointment to two new task forces of the Marine Fisheries Advisory Committee (MAFAC) to support its advisory work for the Secretary of Commerce on living marine resource matters. One task force will focus on climate and marine resources issues and the other on aquaculture issues. The members will be appointed by NMFS in consultation with MAFAC and will serve for an initial term of one or two years. The terms would begin in November or December 2014. Nominees should possess demonstrable knowledge or expertise in the areas described under Supplemental Information for each task force.

DATES: Nominations must be postmarked or have an email date stamp on or before November 17, 2014.

ADDRESSES: Nominations should be sent to Heidi Lovett, Office of Policy, NMFS F-14438, 1315 East-West Highway, Silver Spring, MD 20910 or to heidi.lovett@noaa.gov.

FOR FURTHER INFORMATION CONTACT: Heidi Lovett, (301) 427-8004; email: heidi.lovett@noaa.gov.

SUPPLEMENTARY INFORMATION: MAFAC is the only Federal advisory committee with the responsibility to advise the Secretary of Commerce (Secretary) on all matters concerning living marine resources that are the responsibility of the Department of Commerce. MAFAC is establishing a Climate and Marine Resources Task Force and an Aquaculture Task Force to assist it in the development of recommendations to the Secretary on policies, programs, and regulations critical to the mission and goals of the NMFS.

Climate and Marine Resources Task Force

This Climate and Marine Resources Task Force is being created as a communication conduit for stakeholder input to MAFAC and NOAA Leadership on the production, delivery, and use of climate-related information in fulfilling NOAA Fisheries mission activities. NOAA's marine stewardship mandates include consideration of changing environmental conditions and other factors on marine resources and the industries that depend on these resources. The Task Force will provide review and input on the NOAA Fisheries Climate Science Strategy (pending later this year), regional implementation plans, identification of community impacts related to climate change and fisheries, and other topics as needed.

This Task Force will consist of 12 to 15 individuals. MAFAC is seeking individuals that have experience with the production, delivery and/or use of climate-related information in marine resource management or have familiarity with how science, data, and information influences policy and regulatory decision making. It is not intended that all nominees be scientists or researchers. Individuals should represent the diverse constituent groups or partners from across U.S. regions and territories that interact with NOAA Fisheries: Commercial, recreational, or subsistence fisheries; aquaculture; seafood industries; academia; tribes; environmental, protected resources, marine habitat, and consumer groups; and/or other related national interests.

It is intended that the Task Force be established for an initial period of 3 years with a possibility of extending that term if deemed necessary by NOAA Fisheries and MAFAC. Task Force members will be appointed for 2-year terms and should be able to fulfill the time commitments required for periodic meetings (mostly by webinar or teleconference, and potentially in-person).

Aquaculture Task Force

MAFAC has a longstanding history of engagement on aquaculture issues. The Aquaculture Task Force is being created to expand the aquaculture expertise of MAFAC and to help MAFAC provide advice and input to NOAA Leadership on the NOAA Aquaculture Program and its future activities. The Task Force will assist NOAA in fulfilling its central role in developing and implementing policies that enable marine aquaculture and work to ensure that aquaculture complies with existing Federal laws and regulations that NOAA enforces under its marine stewardship mission.

Some example tasks of the new Task Force will include review of: NOAA's progress on implementing the agency's 10-Year Plan for Marine Aquaculture (from 2007), priorities to include in strategic planning for the aquaculture program, and tasks to support NOAA's work with the Regulatory Task Force of the Interagency Working Group on Aquaculture.

This Task Force will consist of no more than 10 individuals who have expertise in all aspects of marine aquaculture; the science, research, and development to advance aquaculture; and the management and permitting of aquaculture at the Federal, state, and local levels. It is intended that Task Force members will come from across all U.S. regions and territories.

This Task Force will be established for an initial period of 1 year with a possibility of extending that term if deemed necessary by NOAA Fisheries and MAFAC. Task Force members will be appointed for 1-year terms and should be able to fulfill the time commitments required for periodic meetings (mostly by webinar or teleconference, and potentially in-person).

Nomination Materials

Each nomination submission should identify which Task Force the nominee is applying to and include: a cover letter describing the nominee's qualifications and interest in serving on the specific task force, resume or curriculum vitae of the nominee, and up to two recommendation letters describing the nominee's qualifications and interest. Self-nominations are acceptable. The following contact information should accompany each nominee's submission: full name, address, telephone number, fax number, and email address.

Nominations should be sent to (see ADDRESSES) and must be received by November 17, 2014. Information about MAFAC, its Committee Charter, current membership, and activities can be viewed at the NMFS' Web page at www.nmfs.noaa.gov/mafac.htm.

Dated: October 9, 2014.
Eileen Sobeck,
Assistant Administrator for Fisheries, National Marine Fisheries Service.

[FR Doc. 2014-24627 Filed 10-15-14; 8:45 am]

BILLING CODE 3510-22-P